DEPARTMENT OF AGRICULTURE

Food and Nutrition Service

7 CFR Part 271

General Information and Definitions

CFR Correction

In Title 7 of the Code of Federal Regulations, parts 210 to 299, revised as of January 1, 2006, on page 555, in § 271.2, after the definition of “Small project area” remove paragraph (2).

[FR Doc. 06-55517 Filed 5-5-06; 8:45 am]

BILLING CODE 1505-01-D